DEPARTMENT OF LABOR

Employment and Training Administration

[TA-W-65,406]

Cummins Filtration, Findlay, OH; Notice of Termination of Investigation

In accordance with Section 221 of the Trade Act of 1974, as amended, an investigation was initiated on February 26, 2009 in response to a petition filed by a representative of UNITE, Chicago Midwest Regional Joint Board Union, on behalf of workers of Cummins Filtration, Findlay, Ohio.

The petitioner has requested that the petition be withdrawn. Consequently, the investigation has been terminated.

Signed in Washington, DC, this 7th day of April 2009.
Richard Church,
Certifying Officer, Division of Trade Adjustment Assistance.

[FR Doc. E9-10576 Filed 5-6-09; 8:45 am]

BILLING CODE 4510-FN-P